NATIONAL SCIENCE FOUNDATION

Special Emphasis Panel in Polar Programs; Notice of Meeting

In accordance with the Federal Advisory Committee Act (Pub. L. 92-463, as amended), the National Science Foundation announces the following meeting.

Name: Special Emphasis Panel in the Office of Polar Programs (1209).

Date/Time: September 19-20, 2000; 8 a.m.-5 p.m.

Place: National Science Foundation, 4201 Wilson Blvd, Room 360/330, Arlington, VA.

Type of Meeting: Closed.

Contact Person: Dr. Scott Borg and Dr. Julie Palais, Program Directors, Office of Polar Programs, National Science Foundation, 4201 Wilson Boulevard, Room 755, Arlington, VA 22230. Telephone: (703) 292-8033.

Purpose of Meeting: To provide advice and recommendations concerning proposals submitted to NSF for financial support.

Agenda: To review and evaluate Antarctic Glaciology and Antarctic Geology and Geophysics proposals as part of the selection process for awards.

Reason for Closing: The proposals being reviewed include information of a proprietary or confidential nature, including technical information; financial data, such as salaries and personal information concerning individuals associated with the proposals. These matters are exempt under 5 U.S.C. 552b(c), (4) and (6) of the Government in the Sunshine Act.

Dated: August 11, 2000.
Karen J. York,
Committee Management Officer.

[FR Doc. 00-20837 Filed 8-15-00; 8:45 am]

BILLING CODE 7555-01-M